EQUAL EMPLOYMENT OPPORTUNITY COMMISSION

Sunshine Act Meeting

AGENCY HOLDING THE MEETING: Equal Employment Opportunity Commission.

“FEDERAL REGISTER” CITATION OF PREVIOUS ANNOUNCEMENT: 72 FR 37221, Monday, July 9, 2007.

PREVIOUSLY ANNOUNCED TIME AND DATE OF MEETING: Tuesday, July 17, 2007, 10 a.m. (Eastern Time).

CHANGE IN THE MEETING: The meeting has been cancelled.

FOR FURTHER INFORMATION CONTACT: Stephen Llewellyn, Acting Executive Officer on (202) 663-4070.

Issued: July 16, 2007.
Stephen Llewellyn,
Acting Executive Officer, Executive Secretariat.

[FR Doc. 07-3517 Filed 7-16-07; 12:47 pm]

BILLING CODE 6570-01-M